ENVIRONMENTAL PROTECTION AGENCY

40 CFR Part 271

[FRL-7530-8]

Texas: Final Authorization of State Hazardous Waste Management Program Revisions

AGENCY: Environmental Protection Agency (EPA).

ACTION: Removal of immediate final rule.

SUMMARY: EPA is removing the immediate final rule, Texas: Final Authorization of State Hazardous Waste Management Program Revisions, published on April 15, 2003, at 68 FR 18126, which authorized changes to Texas' hazardous waste program under the Resource Conservation and Recovery Act (RCRA). EPA stated in the immediate final rule that if EPA received written comments that opposed this authorization during the comment period, EPA would publish a timely notice of withdrawal in the Federal Register. Since EPA did receive comments that opposed this authorization, EPA is removing the immediate final rule. EPA will address these comments in a subsequent final action.

DATES: As of July 22, 2003. EPA removes the immediate final rule published on April 15, 2003, at 68 FR 18126.

FOR FURTHER INFORMATION CONTACT: Alima Patterson, Regional Authorization Coordinator, Grants and Authorization Section (6PD-G), Multimedia Planning and Permitting Division, EPA Region 6, 1445 Ross Avenue, Dallas, Texas 75202-2733, (214) 665-8533.

SUPPLEMENTARY INFORMATION: EPA's removal of this immediate final rule is based on the Agency receiving written comments that opposed this authorization. The EPA is removing the immediate final rule, Texas: Final Authorization of State Hazardous Waste Management Program Revisions, published on April 15, 2003, at 68 FR 18126, which authorized changes to Texas' hazardous waste rules. EPA stated in the immediate final rule that if EPA received written comments that opposed this authorization during the comment period, EPA would publish a timely notice of withdrawal in the Federal Register. The immediate final rule became effective June 16, 2003. However, since EPA received comments that opposed this action, EPA is today removing the immediate final rule. EPA will address the comments received during the comment period in a subsequent final action.

Dated: July 11, 2003.
Richard E. Greene,
Regional Administrator, Region 6.

[FR Doc. 03-18293 Filed 7-21-03; 8:45 am]

BILLING CODE 6560-50-P